DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 15, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Boulder County, Colorado and Incorporated Areas
Docket No.: FEMA-B-1753
City of Lafayette | City Hall, 1290 South Public Road, Lafayette, CO 80026.
City of Louisville | City Hall, 749 Main Street, Louisville, CO 80027.
Town of Erie | Town Hall, 645 Holbrook Street, Erie, CO 80516.
Town of Superior | Town Hall, 124 East Coal Creek Drive, Superior, CO 80027.
Unincorporated Areas of Boulder County | Boulder County Transportation Department, 2525 13th Street, Suite 203, Boulder, CO 80304.
City and County of Broomfield, Colorado
Docket No.: FEMA-B-1753
City and County of Broomfield | City Hall, Engineering Department, 1 DesCombes Drive, Broomfield, CO 80020.
Pitkin County, Colorado and Incorporated Areas
Docket No.: FEMA-B-1547
City of Aspen | Engineering Department, 201 North Mill Street, Suite 203, Aspen, CO 81611.
Town of Snowmass Village | Town Hall, 130 Kearns Road, Snowmass Village, CO 81615.
Unincorporated Areas of Pitkin County | Pitkin County Administration Building, Planning and Zoning Department, 530 East Main Street, Suite 205, Aspen, CO 81611.
Pueblo County, Colorado and Incorporated Areas
Docket No.: FEMA-B-1652
City of Pueblo | Public Works, 211 East D Street, Pueblo, CO 81003.
Town of Boone | Town Hall, 421 East 1st Street, Boone, CO 81025.
Town of Rye | Water Plant, 8171 Park Road, Rye, CO 81069.
Unincorporated Areas of Pueblo County | Pueblo County Planning and Development Department, 229 West 12th Street, Pueblo, CO 81003.
Burke County, Georgia and Incorporated Areas
Docket No.: FEMA-B-1823
Unincorporated Areas of Burke County | Burke County Courthouse, 602 North Liberty Street, Waynesboro, GA 30830.
Carroll County, Georgia and Incorporated Areas
Docket No.: FEMA-B-1708
City of Villa Rica | City Hall, 571 West Bankhead Highway, Villa Rica, GA 30180.
DeKalb County, Georgia and Incorporated Areas
Docket No.: FEMA-B-1823
City of Atlanta | Office of Zoning and Development, 55 Trinity Avenue Southwest, Suite 3350, Atlanta, GA 30303.
City of Brookhaven | City Hall, 4362 Peachtree Road, Brookhaven, GA 30319.
City of Chamblee | City Hall, 5468 Peachtree Road, Chamblee, GA 30341.
City of Clarkston | City Hall—Annex, 1055 Rowland Street, Clarkston, GA 30021.
City of Decatur | Leveritt Public Works Building, 2635 Talley Street, Decatur, GA 30030.
City of Doraville | City Hall, 3725 Park Avenue, Doraville, GA 30340.
City of Dunwoody | City Hall, 4800 Ashford Dunwoody Road, Dunwoody, GA 30338.
City of Tucker | City Hall, 4119 Adrian Street, Tucker, GA 30084.
Unincorporated Areas of DeKalb County | DeKalb County Roads and Drainage Department, 727 Camp Road, Decatur, GA 30032.
Lenawee County, Michigan (All Jurisdictions)
Docket No.: FEMA-B-1806
Charter Township of Adrian | Township Hall, 2907 Tipton Highway, Adrian, MI 49221.
Charter Township of Madison | Township Hall, 4008 South Adrian Highway, Adrian, MI 49221.
Charter Township of Raisin | Township Offices, 5525 Occidental Highway, Tecumseh, MI 49286.
City of Adrian | City Hall, 135 East Maumee Street, Adrian, MI 49221.
City of Hudson | City Hall, 121 North Church Street, Hudson, MI 49247.
City of Tecumseh | City Hall, 309 East Chicago Boulevard, Tecumseh, MI 49286.
Township of Blissfield | Township Offices, 120 South Lane Street, Blissfield, MI 49228.
Township of Cambridge | Township Hall, 9990 West M50, Onsted, MI 49265.
Township of Clinton | Township Hall, 172 West Michigan Avenue, Clinton, MI 49236.
Township of Deerfield | Township Hall, 468 Carey Street, Deerfield, MI 49238.
Township of Franklin | Township Hall, 3922 Monroe Road, Tipton, MI 49287.
Township of Hudson | Township Hall, 14510 Carleton Road, Hudson, MI 49247.
Township of Ogden | Township Hall, 10128 Pence Highway, Blissfield, MI 49228.
Township of Palmyra | Township Hall, 4276 Main Street, Palmyra, MI 49268.
Township of Riga | Township Hall, 7817 Riga Highway, Riga, MI 49276.
Township of Rome | Township Office, 9344 Forrister Road, Adrian, MI 49221.
Township of Tecumseh | Township Hall, 7750 Hendershot Highway, Tecumseh, MI 49286.
Township of Woodstock | Township Hall, 6486 Devils Lake Highway, Addison, MI 49220.
Village of Blissfield | Village Hall, 130 South Lane Street, Blissfield, MI 49228.
Village of Cement City | Village Office, 135 Main Street, Cement City, MI 49233.
Village of Clinton | Village Office, 119 East Michigan Avenue, Clinton, MI 49236.
Village of Deerfield | Municipal Building, 101 West River Street, Deerfield, MI 49238.
Fillmore County, Minnesota and Incorporated Areas
Docket No.: FEMA-B-1667
City of Chatfield | City Hall, 21 Second Street Southeast, Chatfield, MN 55923.
City of Lanesboro | City Hall, 202 Parkway Avenue South, Lanesboro, MN 55949.
City of Mabel | City Hall, 207 North Main Street, Mabel, MN 55954.
City of Ostrander | City Hall, 414 Main Street, Ostrander, MN 55961.
City of Peterson | City Hall, 118 Fillmore Street, Peterson, MN 55962.
City of Preston | City Hall, 210 Fillmore Street West, Preston, MN 55965.
City of Rushford | City Hall, 101 North Mill Street, Rushford, MN 55971.
City of Rushford Village | City Hall, 43038 State Highway 30 West, Rushford Village, MN 55971.
City of Spring Valley | City Hall, 201 South Broadway, Spring Valley, MN 55975.
City of Whalan | City Hall, 905 Bench Street, Whalan, Minnesota 55949.
Unincorporated Areas of Fillmore County | Fillmore County Courthouse, 101 Fillmore Street, Preston, MN 55965.
Richland County, Montana and Incorporated Areas
Docket No.: FEMA-B-1753
Unincorporated Areas of Richland County | Richland County Courthouse, 201 West Main Street, Sidney, MT 59270.
Cuyahoga County, Ohio and Incorporated Areas
Docket No.: FEMA-B-1804
City of Bay Village | Engineering Department, 350 Dover Center Road, Bay Village, OH 44140.
City of Cleveland | City Hall, 601 Lakeside Avenue, Cleveland, OH 44114.
City of Euclid | City Hall, 585 East 222nd Street, Euclid, OH 44123.
City of Lakewood | City Hall, 12650 Detroit Avenue, Lakewood, OH 44107.
City of Rocky River | City Hall, 21012 Hilliard Boulevard, Rocky River, OH 44116.
Village of Bratenahl | Village Hall, 411 Bratenahl Road, Bratenahl, OH 44108.
Richland County, Ohio and Incorporated Areas
Docket No.: FEMA-B-1703
City of Shelby | City Hall, 43 West Main Street, Shelby, OH 44875.
Unincorporated Areas of Richland County | Richland County Engineer's Office, 77 North Mulberry Street, Mansfield, OH 44902.
Galveston County, Texas and Incorporated Areas
Docket No.: FEMA-B-1315 and FEMA-B-1827
City of Bayou Vista | City Hall, 2929 State Highway 6, Bayou Vista, TX 77563.
City of Clear Lake Shores | City Hall, 1006 South Shore Drive, Clear Lake Shores, TX 77565.
City of Dickinson | City Hall, 4403 Highway 3, Dickinson, TX 77539.
City of Friendswood | City Hall, 910 South Friendswood Drive, Friendswood, TX 77546.
City of Galveston | City Hall, 823 Rosenberg Street, Room 401, Galveston, TX 77553.
City of Hitchcock | City Hall, 7423 Highway 6, Hitchcock, TX 77563.
City of Jamaica Beach | Municipal Court, 16628 San Luis Pass Road, Jamaica Beach, TX 77554.
City of Kemah | City Hall, 1401 State Highway 146, Kemah, TX 77565.
City of La Marque | City Hall, 1111 Bayou Road, La Marque, TX 77568.
City of League City | Building Department, 500 West Walker Street, League City, TX 77573.
City of Santa Fe | City Hall, 12002 State Highway 6, Santa Fe, TX 77510.
City of Texas City | Building Inspections Department, 928 5th Avenue North, Texas City, TX 77592.
Unincorporated Areas of Galveston County | Galveston County Courthouse, Engineering Department, 722 Moody Avenue, Galveston, TX 77550.
Village of Tiki Island | City Hall, 802 Tiki Drive, Tiki Island, TX 77554.

[FR Doc. 2019-11669 Filed 6-4-19; 8:45 am]

BILLING CODE 9110-12-P